FEDERAL RESERVE SYSTEM

Change in Bank Control Notices; Acquisitions of Shares of Banks or Bank Holding Companies

The notificants listed below have applied under the Change in Bank Control Act (12 U.S.C. 1817(j)) and § 225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than December 19, 2000.

A. Federal Reserve Bank of St. Louis (Randall C. Sumner, Vice President), 411 Locust Street, St. Louis, Missouri 63166-2034:

1. Hardin County Bancshares, Inc. Employee Stock Ownership Plan, and Eddie K. Whitlow, Savannah, Tennessee; as trustee for Hardin County Bancshares, Inc., Savannah, Tennessee, executor of the Isom G. Hinton Estate, and co-executor of the Hinton Family Partnership; to retain voting shares of Hardin County Bancshares, Inc., Savannah, Tennessee, and thereby indirectly retain voting shares of The Hardin County Bank, Savannah, Tennessee.

B. Federal Reserve Bank of Dallas (W. Arthur Tribble, Vice President), 2200 North Pearl Street, Dallas, Texas 75201-2272:

1. Stewart Larkin Armstrong, San Antonio, Texas; to acquire additional voting shares of Kleberg and Company Bankers, Inc., Kingsville, Texas, and thereby indirectly acquire additional voting shares of Kleberg First National Bank, Kingsville, Texas.

Dated: Board of Governors of the Federal Reserve System, November 29, 2000.
Robert deV. Frierson,
Associate Secretary of the Board.

[FR Doc. 00-30833 Filed 12-4-00; 8:45 am]

BILLING CODE 6210-01-P